DEPARTMENT OF THE INTERIOR

Bureau of Land Management

[CACA-052537, LLCAD05000, L51010000.LVRWB11B4520.FX0000]

Notice of Availability of the Record of Decision for the Alta East Wind Project, Kern County, California

AGENCY: Bureau of Land Management, Interior.

ACTION: Notice of Availability.

SUMMARY: The Bureau of Land Management (BLM) announces the availability of the Record of Decision (ROD) to grant a right-of-way (ROW) and amend the California Desert Conservation Area Plan (CDCA Plan) for the Alta East Wind Project (AEWP). The Acting Assistant Secretary for Land and Minerals Management approved the ROD on May 23, 2013, which constitutes the final decision of the Department.

ADDRESSES: Copies of the ROD/Approved Amendment to the CDCA Plan are available upon request from the Field Manager, Ridgecrest Field Office, 300 South Richmond Road, Ridgecrest, CA 93555, and the California Desert District Office, 22835 Calle San Juan de Los Lagos, Moreno Valley, CA 92553-9046, or via the Internet at: http://www.blm.gov/ca/st/en/fo/ridgecrest/alta_east_wind_project.html.

FOR FURTHER INFORMATION CONTACT: Jeffery Childers; telephone, 951-697-5308; mail, BLM California Desert District Office, 22835 Calle San Juan de Los Lagos, Moreno Valley, CA 92553-9046; or email jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Alta Windpower Development, LLC, filed a ROW application for the AEWP. The project as originally proposed would have consisted of a 318-megawatt wind-energy generation facility on a 2,592-acre site (public and private lands) with 106 wind turbines, access roads, collector substation, operation and maintenance facility, temporary portable concrete batch plant, meteorological towers, and a transmission line. The proposed project would require approximately 568 acres of private lands. The project site is located approximately 3 miles northwest of the town of Mojave and approximately 11 miles east of the city of Tehachapi.

The Selected Alternative consists of 2,592 acres, of which 1,999 acres are on public land under the jurisdiction of the BLM and 593 acres are on private land under the jurisdiction of Kern County. The Selected Alternative contains 51 wind turbines capable of generating up to 153 megawatts.

The project site is within the planning boundary of the CDCA Plan. The CDCA Plan, while recognizing the potential compatibility of wind-energy generation facilities with other uses on public lands, requires that all sites associated with power generation or transmission not already identified in the Plan be considered through the BLM's land use plan amendment process. As a result, prior to approval of a ROW grant for the AEWP, the BLM must amend the CDCA Plan to allow the wind-energy generating project on that site. The approved amendment to the CDCA Plan specifically revises the CDCA Plan to allow for the development of the AEWP and ancillary facilities on land managed by the BLM.

Publication of the Notice of Availability of the Proposed Plan Amendment/Final EIS for the AEWP on February 15, 2013 (78 FR 11171), initiated a 30-day protest period for the proposed amendment to the CDCA Plan which concluded on March 18, 2013. The BLM received one timely protest which was resolved prior to the execution of the ROD. The protest resolution is summarized in the ROD and addressed in the separate Director's Protest Resolution Report. The proposed amendment to the CDCA Plan was not modified as a result of the protest received or the resolution.

Simultaneously with the protest period, the Governor of California conducted an expedited 30-day consistency review of the proposed CDCA Plan amendment to identify any inconsistencies with State or local plans, policies, or programs; no inconsistencies were identified by the Governor's Office.

Because this decision is approved by the Acting Assistant Secretary for Lands and Minerals, it is not subject to administrative appeal (43 CFR 4.410(a)(3)).

Authority: 40 CFR 1506.6

Jamie Connell,
Acting Deputy Director for Operations, Bureau of Land Management.

[FR Doc. 2013-13059 Filed 5-31-13; 8:45 am]

BILLING CODE 4310-40-P